DEPARTMENT OF STATE

[Public Notice 8955]

Determination and Certification Regarding Assistance to Fiji

ACTION: Notice.

SUMMARY: On October 24, 2014, the Deputy Secretary of State took the following action: “Pursuant to the authority vested in me as Deputy Secretary of State, including by section 7008 of the Department of State, Foreign Operations, and Related Programs Appropriations Act, 2014 (Div. K, Pub. L. 113-76), as carried forward by the Continuing Appropriations Resolution, 2014 (Pub. L. 113-64), and similar provisions in prior year Acts, Executive Order 12163, as amended, and State Department Delegation of Authority No. 245-1, I hereby determine and certify that, subsequent to the termination of assistance to the Government of Fiji after that country's December 2006 military coup, a democratically elected government has taken office in Fiji.

“This Determination and Certification shall be reported to Congress and published in the Federal Register.”

(Signed William J. Burns, Deputy Secretary of State)

This Determination and Certification has been reported to Congress.

Dated: October 29, 2014.
J. Paul Reid,
Acting Deputy Assistant Secretary of State, Bureau of East Asian and Pacific Affairs.

[FR Doc. 2014-27933 Filed 11-24-14; 8:45 am]

BILLING CODE 4710-30-P